COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and delete products previously furnished by such agencies.

DATES: Comments must be received on or before March 3, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from the nonprofit agencies employing persons who are blind or have other severe disabilities.

The following products and service are proposed for addition to the Procurement List for production by the nonprofit agencies listed:

Products

NSN(s)—Product Name(s): MR 10659—Container Set, Soup and Salad, Includes Shipper 20659

Mandatory Source of Supply: Winston-Salem Industries for the Blind, Inc., Winston-Salem, NC

NSN(s)—Product Name(s): MR 849—Whisk, Wire Looped

Mandatory Source(s) of Supply: Cincinnati Association for the Blind, Cincinnati, OH

Mandatory for: Military commissaries and exchanges in accordance with the Code of Federal Regulations, Chapter 51, 51-6.4.

Contracting Activity: Defense Commissary Agency, Fort Lee, VA

Distribution: C-List

Service

Service Type: Custodial Service

Mandatory For: U.S. Air Force, Air Force Institute of Technology/Air Force Research Laboratories, Wright-Patterson Air Force Base, OH

Mandatory Source(s) of Supply: CW Resources, Inc., New Britain, CT

Contracting Activity: Dept. of the Air Force, FA8601 AFLCMC PZIO, Wright-Patterson Air Force Base, OH

Deletions

The following products are proposed for deletion from the Procurement List:

Products

NSN(s)—Product Name(s): MR 941—Cloth, Dish, Knitted Cotton, 4 pack

Mandatory Source(s) of Supply: Lions Services, Inc., Charlotte, NC

NSN(s)—Product Name(s): MR 354—Multipurpose Food Dicer

Mandatory Source(s) of Supply: Industries for the Blind, Inc., West Allis, WI

Contracting Activity: Defense Commissary Agency, Fort Lee, VA

NSN(s)—Product Name(s):

7530-00-NIB-0496—Index Tabs, Mylar Reinforced

7530-00-NIB-0497

7530-00-NIB-0498

7530-00-NIB-0499

7530-00-NIB-0500

7530-00-NIB-0501

7530-00-NIB-0502

7530-00-NIB-0503

7530-00-NIB-0504

Mandatory Source(s) of Supply: South Texas Lighthouse for the Blind, Corpus Christi, TX

Contracting Activity: General Services Administration, New York, NY

NSN(s)—Product Name(s): 9320-00-NSH-0001—Foam Cutouts

Mandatory Source(s) of Supply: Epilepsy Association of Georgia, Warner Robins, GA

Contracting Activity: Dept. of the Air Force, FA8501 AFSC PZIO, Robins AFB, GA.

Barry S. Lineback,
Director, Business Operations.

[FR Doc. 2016-04810 Filed 3-3-16; 8:45 am]

BILLING CODE 6353-01-P